OFFICE OF PERSONNEL MANAGEMENT

5 CFR Part 532

RIN 3206-AL68

Prevailing Rate Systems; Redefinition of the New Orleans, LA, Appropriated Fund Federal Wage System Wage Area

AGENCY: U.S. Office of Personnel Management.

ACTION: Final rule.

SUMMARY: The U.S. Office of Personnel Management is issuing a final rule to add St. Charles and St. John the Baptist Parishes, Louisiana, to the survey area of the New Orleans, LA, appropriated fund Federal Wage System wage area. The purpose of this change is to ensure the lead agency for the New Orleans wage area is able to obtain wage data that best represent the prevailing rates paid by businesses in the area.

DATES: Effective date: This regulation is effective on September 18, 2008.

FOR FURTHER INFORMATION CONTACT: Madeline Gonzalez, (202) 606-2838; e-mail: pay-performance-policy@opm.gov; or Fax: (202) 606-4264.

SUPPLEMENTARY INFORMATION: On July, 9 2008, the U.S. Office of Personnel Management (OPM) issued an interim rule (73 FR 39213) to add St. Charles and St. John the Baptist Parishes, Louisiana, to the survey area of the New Orleans, LA, appropriated fund Federal Wage System (FWS) wage area. The interim rule had a 30-day public comment period, during which OPM received no comments.

This change will be effective for the next full-scale wage survey in the wage area, which is scheduled to begin in November 2008.

Regulatory Flexibility Act

I certify that these regulations will not have a significant economic impact on a substantial number of small entities because they will affect only Federal agencies and employees.

List of Subjects in 5 CFR Part 532

Administrative practice and procedure, Freedom of information, Government employees, Reporting and recordkeeping requirements, Wages.

U.S. Office of Personnel Management.
Michael W. Hager,
Acting Director.

Accordingly, under the authority of 5 U.S.C. 5343, the interim rule published on July 9, 2008, amending 5 CFR part 532 (73 FR 39213) is adopted as final with no changes.

[FR Doc. E8-21831 Filed 9-17-08; 8:45 am]

BILLING CODE 6325-39-P